DEPARTMENT OF COMMERCE

International Trade Administration

[A-580-825]

Oil Country Tubular Goods, Other Than Drill Pipe, from Korea: Final Results of Antidumping Duty Administrative Review

AGENCY: Import Administration, International Trade Administration, U.S. Department of Commerce.

SUMMARY: On August 31, 2006, the Department of Commerce (“the Department”) published the preliminary results of the administrative review of the antidumping duty order on oil country tubular goods (“OCTG”), other than drill pipe, from Korea for the period (“POR”) August 1, 2004 through July 31, 2005. See Oil Country Tubular Goods, Other Than Drill Pipe, from Korea: Preliminary Results of Antidumping Duty Administrative Review, 71 FR 51797 (August 31, 2006) (Preliminary Results). This review covers the following manufacturers/exporters: Husteel Co., Ltd. (“Husteel”) and SeAH Steel Corporation (“SeAH”). Based on our analysis of the comments received, we have made changes to the Preliminary Results. For the final dumping margins see the “Final Results of Review” section below.

EFFECTIVE DATE: March 6, 2007.

FOR FURTHER INFORMATION CONTACT: Scott Lindsay, Nicholas Czajkowski, or Dara Iserson, AD/CVD Operations, Office 6, Import Administration, International Trade Administration, U.S. Department of Commerce, 14th Street and Constitution Avenue, N.W., Washington, DC 20230, telephone: (202) 482-0780, (202) 482-1395, or (202) 482-4052, respectively.

SUPPLEMENTARY INFORMATION:

Background

On August 31, 2006, the Department published in the Federal Register the preliminary results of the administrative review of the antidumping duty order on OCTG from Korea. See Preliminary Results. Since the Preliminary Results, the following events have occurred. We received case briefs on October 2, 2006, and rebuttal briefs on October 10, 2006. On October 24, 2006, the Department sent a letter to the parties informing them that Domestic Interested Parties, IPSCO Tubulars, Inc., Lone Star Steel Company, and Maverick Tube Corporations (collectively, IPSCO Tubulars) as well as the Petitioner, U.S. Steel Corporation (U.S. Steel) were being provided an opportunity to submit a rebuttal brief solely in reference to a new issue raised by Respondents in their case brief. The Department received these rebuttal briefs from IPSCO Tubulars on October 30, 2006, and U.S. Steel Corporation on November 1, 2006. On December 22, 2006, pursuant to section 751(a)(3)(A) of the Tariff Act of 1930, as amended (“the Act”), the Department extended the final results by 60 days to February 27, 2006. See Notice of Extension of Time Limit for Final Results of Administrative Review: Oil Country Tubular Goods, Other Than Drill Pipe, from Korea, 71 FR 76977 (December 22, 2006).

Scope of the Antidumping Duty Order

The products covered by this order are OCTG, hollow steel products of circular cross-section, including only oil well casing and tubing, of iron (other than cast iron) or steel (both carbon and alloy), whether seamless or welded, whether or not conforming to American Petroleum Institute (“API”) or non-API specifications, whether finished or unfinished (including green tubes and limited service OCTG products). This scope does not cover casing or tubing pipe containing 10.5 percent or more of chromium, or drill pipe. The products subject to this order are currently classified in the Harmonized Tariff Schedule of the United States (“HTSUS”) under sub-headings: 7304.29.10.10, 7304.29.10.20, 7304.29.10.30, 7304.29.10.40, 7304.29.10.50, 7304.29.10.60, 7304.29.10.80, 7304.29.20.10, 7304.29.20.20, 7304.29.20.30, 7304.29.20.40, 7304.29.20.50, 7304.29.20.60, 7304.29.20.80, 7304.29.30.10, 7304.29.30.20, 7304.29.30.30, 7304.29.30.40, 7304.29.30.50, 7304.29.30.60, 7304.29.30.80, 7304.29.40.10, 7304.29.40.20, 7304.29.40.30, 7304.29.40.40, 7304.29.40.50, 7304.29.40.60, 7304.29.40.80, 7304.29.50.15, 7304.29.50.30, 7304.29.50.45, 7304.29.50.60, 7304.29.50.75, 7304.29.60.15, 7304.29.60.30, 7304.29.60.45, 7304.29.60.60, 7304.29.60.75, 7305.20.20.00, 7305.20.40.00, 7305.20.60.00, 7305.20.80.00, 7306.20.10.30, 7306.20.10.90, 7306.20.20.00, 7306.20.30.00, 7306.20.40.00, 7306.20.60.10, 7306.20.60.50, 7306.20.80.10, and 7306.20.80.50.

As a result of recent changes to the Harmonized Tariff Schedule, effective February 2, 2007, the subject merchandise is also classifiable under the following additional HTS item numbers: 7304.29.31.10, 7304.29.31.20, 7304.29.31.30, 7304.29.31.40, 7304.29.31.50, 7304.29.31.60, 7304.29.31.80, 7304.29.41.10, 7304.29.41.20, 7304.29.41.30, 7304.29.41.40, 7304.29.41.50, 7304.29.41.60, 7304.29.41.80, 7304.29.61.15, 7304.29.61.30, 7304.29.61.45, 7304.29.61.60, 7304.29.61.75, 7306.29.10.30, 7306.29.10.90, 7306.29.20.00, 7306.29.31.00, 7306.29.41.00, 7306.29.60.10, 7306.29.60.50, 7306.29.81.10, and 7306.29.81.50.

The HTSUS sub-headings are provided for convenience and customs purposes only. The written description remains dispositive of the scope of the order.

Analysis of Comments Received

The issues raised in the case and rebuttal briefs by parties to this administrative review are addressed in the Issues and Decisions Memorandum for the Final Results of the Administrative Review of the Antidumping Duty Order on Oil Country Tubular Goods (“OCTG”) from Korea, February 27, 2007 (Issues and Decisions Memorandum), which is hereby adopted by this notice. The Issues and Decisions Memorandum is on file in the Central Records Unit (CRU), room B-099 of the Department of Commerce main building and can be accessed directly at http://ia.ita.doc.gov/frn. The paper copy and electronic version of the Issues and Decisions Memorandum are identical in content. A list of the issues addressed in the Issues and Decisions Memorandum is appended to this notice.

Changes Since the Preliminary Results

Based on our analysis of the comments received, we have made changes in the calculations for the final dumping margin. The changes are discussed in detail in the Issues and Decisions Memorandum and in the Memorandum from Dara Iserson, Case Analyst, to the File: Analysis of Husteel Corporation (“Husteel”) for the Final Results of the Administrative Review of Oil Country Tubular Goods, Other Than Drill Pipe from Korea, and Memorandum from Nicholas Czajkowski, Case Analyst, to the File: Analysis of SeaH Steel Corporation (“SeAH”) for the Final Results of the Administrative Review of Oil Country Tubular Goods, Other Than Drill Pipe from Korea, dated February 27, 2007, on file in the CRU.

Final Results of Review

As a result of our review, we determine that the following weighted-average margins exist for the period August 1, 2004, through July 31, 2005:

Manufacturer/Exporter | Margin (percent)
SeAH Steel Corporation | 4.73
Husteel Co., Ltd. | 0.39 (de minimis)

Assessment Rates

The Department will determine, and U.S. Customs and Border Protection (CBP) shall assess, antidumping duties on all appropriate entries, pursuant to section 751(a)(1)(B) of the Act, and 19 CFR 351.212(b). The Department calculated importer- specific duty assessment rates (or, when the importer was unknown by the respondent, customer-specific duty assessment rates) on the basis of the ratio of the total amount of antidumping duties calculated for the examined sales observations involving each importer to the total entered value of the examined sales observations for that importer. The Department intends to issue assessment instructions to CBP 15 days after the date of publication of these final results of review.

The Department clarified its “automatic assessment” regulation on May 6, 2003. This clarification will apply to entries of subject merchandise during the POR produced by companies included in these final results of review for which the reviewed companies did not know their merchandise was destined for the United States. In such instances, we will instruct CBP to liquidate unreviewed entries at the “All Others” rate if there is no rate for the intermediate company(ies) involved in the transaction. For a discussion of this clarification, see Notice of Policy Concerning Assessment of Antidumping Duties, 68 FR 23954 (May 6, 2003).

Cash Deposit Requirements

The following antidumping duty cash deposit rates will be effective upon publication of the final results of this administrative review for all shipments of OCTG from Korea entered, or withdrawn from warehouse, for consumption on or after the publication date of the final results, as provided for by section 751(a)(1) of the Act: (1) for SeAH, the cash deposit rate will be the rate shown above, (2) since the dumping margin for Husteel is de minimis (less than 0.50 percent), no cash deposit will be required for Husteel, 3) for previously reviewed or investigated companies not listed above, the cash deposit rate will be the company-specific rate established for the most recent period, (4) if the exporter is not a firm covered in this review, a prior review, or the less-than-fair-value (LTFV) investigation, but the manufacturer is, the cash deposit rate will be the rate established for the most recent period for the manufacturer of the subject merchandise, and (5) if neither the exporter nor the manufacturer is a firm covered by this review, a prior review, or the LTFV investigation, the cash deposit rate shall be the all others rate established in the LTFV investigation, which is 12.17 percent. See Final Determination of Sales at Less Than Fair Value: Oil Country Tubular Goods from Korea, 60 FR 33561 (June 28, 1995). These deposit rates, when imposed, shall remain in effect until publication of the final results of the next administrative review.

Notification to Importers

This notice serves as a final reminder to importers of their responsibility under 19 CFR 351.402(f)(2) to file a certificate regarding the reimbursement of antidumping duties prior to liquidation of the relevant entries during this review period. Failure to comply with this requirement could result in the Secretary's presumption that reimbursement of antidumping duties occurred and the subsequent assessment of doubled antidumping duties.

Notification Regarding APOs

This notice also serves as a reminder to parties subject to administrative protective orders (APO) of their responsibility concerning the disposition of proprietary information disclosed under APO in accordance with 19 CFR 351.305(a). Timely written notification of the return/destruction of APO materials or conversion to judicial protective order is hereby requested. Failure to comply with the regulations and terms of an APO is a sanctionable violation.

These final results of administrative review and this notice are issued and published in accordance with sections 751(a)(1) and 777(i)(1) of the Act.

Dated: February 27, 2007.
David M. Spooner,
Assistant Secretary for Import Administration.

Appendix

List of Issues

1. Adjustments to Husteel's G&A Expense Ratio

2. Husteel's Profit and Selling Expense Ratios for Constructed Value

3. Husteel's CEP Profit

4. Treatment of Inventory Carrying Costs Incurred in Korea for U.S. Sales

5. CEP Offset to SeAH

6. Interest Expenses Associated with U.S. Selling Operations

7. G&A Expense for Further Manufacturing

8. Interest Expense for Further Manufacturing

9. Further Manufacturing Freight Expenses

10. Calculation Issues

[FR Doc. E7-3893 Filed 3-5-07; 8:45 am]

BILLING CODE 3510-DS-S